DEPARTMENT OF THE INTERIOR

Minerals Management Service

Outer Continental Shelf, Pacific OCS Region, Environmental Document Prepared for Development of the Eastern Half of Lease OCS-P 0451

AGENCY: Minerals Management Service (MMS).

ACTIONS: Notice of availability of Environmental Assessment (EA) and Finding of No Significant Impact (FONSI).

SUMMARY: The MMS Pacific OCS Region has prepared an EA for Arguello Inc.'s revisions to the Point Arguello Field Development and Production Plans to include development of the eastern half of Lease OCS-P 0451 pursuant to the requirements of the National Environmental Policy Act (NEPA).

DATES: MMS completed the EA and issued a Finding of No Significant Impact (FONSI) on June 19, 2003.

FOR FURTHER INFORMATION CONTACT: Mr. Maurice Hill, Minerals Management Service, Pacific OCS Region, 770 Paseo Camarillo, Camarillo, CA 93010, telephone (805) 389-7815. A digital copy of the EA on a Compact Disk may be requested by calling 1-800-6-PAC-OCS (1-800-672-2627), or by sending a request to the above address.

SUPPLEMENTARY INFORMATION: The MMS prepares EA's and Findings for Outer Continental Shelf (OCS) oil and gas exploration and development activities and other operations on the Pacific OCS. Arguello Inc. proposes to develop the eastern half of Federal Lease OCS-P 0451 by drilling a maximum of eight extended-reach wells from two existing OCS platforms in the Point Arguello Unit, Platforms Hermosa and Hidalgo. The project area is located offshore about 13 km (8 mi) northwest of Point Conception, Santa Barbara County, California. Lease OCS-P 0451 is considered a developed lease by virtue of the existing production on the western half, in the Point Arguello Unit. Previously, the eastern half of Lease OCS-P 0451 was part of the Rocky Point Unit, but has since been contracted out of the Unit. Therefore, it is no longer unitized with the undeveloped leases of the Rocky Point Unit, and production from this portion of the lease will have no effect on holding the Rocky Point Unit leases, nor will it cause production of the undeveloped Rocky Point Unit leases.

The MMS distributed a copy of Arguello Inc.'s proposal for review and comment to five State agencies, eight Federal agencies, two local agencies, and two non-governmental organizations. The EA examines the potential environmental effects of Arguello Inc.'s proposed action and presents MMS findings regarding the significance of those effects. The MMS prepares EA's to determine whether proposed projects constitute a major Federal action that significantly affects the quality of the human environment in the sense of NEPA 102(2)(C). A FONSI is prepared in those instances where the MMS finds that approval will not result in significant effects on the quality of the human environment. The FONSI briefly presents the basis for that finding and includes a summary or copy of the EA. The MMS completed an EA and issued a FONSI for Arguello Inc.'s proposed action on June 19, 2003. This notice constitutes the public Notice of Availability of environmental documents required under the NEPA regulations.

Dated: July 3, 2003.
Peter L. Tweedt,
Regional Manager, Pacific OCS Region, Minerals Management Service.

[FR Doc. 03-21496 Filed 8-21-03; 8:45 am]

BILLING CODE 4310-MR-P